SECURITIES AND EXCHANGE COMMISSION

[Release No. 34-75297; File No. SR-EDGX-2015-18]

Self-Regulatory Organizations; EDGX Exchange, Inc.; Notice of Designation of a Longer Period for Commission Action on a Proposed Rule Change To Establish Rules Governing the Trading of Options on the EDGX Options Exchange

June 25, 2015.

On April 30, 2015, EDGX Exchange, Inc. (“EDGX” or “Exchange”) filed with the Securities and Exchange Commission (the “Commission”), pursuant to Section 19(b)(1) of the Securities Exchange Act of 1934 (“Act”) ¹ and Rule 19b-4 thereunder,² a proposed rule change to adopt rules to govern the trading of options on the EDGX Options Exchange. The proposed rule change was published for comment in the Federal Register on May 19, 2015.³ The Commission received no comment letters on the proposed rule change.

¹ 15 U.S.C. 78s(b)(1).

² 17 CFR 240.19b-4.

³ See Securities Exchange Act Release No. 74949 (May 13, 2015), 80 FR 28745.

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is July 3, 2015. The Commission is extending this 45-day time period.

⁴ 15 U.S.C. 78s(b)(2).

The Commission finds it appropriate to designate a longer period within which to take action on the proposed rule change so that it has sufficient time to consider this proposed rule change. The proposed rule change, if approved, would adopt rules in connection with EDGX Options, which would be a facility of the Exchange. EDGX Options would operate an electronic trading system developed to trade options.

Accordingly, the Commission, pursuant to Section 19(b)(2) of the Act,⁵ designates August 17, 2015, as the date by which the Commission should either approve or disapprove, or institute proceedings to determine whether to disapprove, the proposed rule change (File No. SR-EDGX-2015-18).

⁵ Id.

⁶ 17 CFR 200.30-3(a)(31).

For the Commission, by the Division of Trading and Markets, pursuant to delegated authority.⁶
Robert W. Errett,
Deputy Secretary.

[FR Doc. 2015-16086 Filed 6-30-15; 8:45 am]

BILLING CODE 8011-01-P